CENTRAL INTELLIGENCE AGENCY

32 CFR Part 1902

Information Security Regulations

AGENCY: Central Intelligence Agency.

ACTION: Final rule.

SUMMARY: The Central Intelligence agency is removing certain information security regulations which have become outdated. The Executive Order upon which the regulations are based has been superseded, and the regulations are no longer needed.

DATES: Effective October 11, 2011.

FOR FURTHER INFORMATION CONTACT: Joseph W. Lambert, (703) 613-1379.

SUPPLEMENTARY INFORMATION: Under the authority of Executive Order 13526, the CIA is removing and reserving 32 CFR part 1902. This part relies on authority that is no longer in force and established criteria and procedures that are superseded by Executive Order 13526. This rule is being issued as final rule without prior notice of proposed rulemaking as allowed by the Administrative Procedures Act, 5 U.S.C. 533(b)(3)(A) for rules of agency procedure and interpretation and Section 6 of the CIA Act as amended, 50 U.S.C. 403g.

List of Subjects in 32 CFR Part 1902

Information security regulations.

PART 1902 [REMOVED AND RESERVED]

§ 1902.13 [Removed and Reserved]

Accordingly, under the authority of Executive Order 13526, the CIA removes and reserves part 32 CFR part 1902.

Dated: September 19, 2011.
Joseph W. Lambert,
Director, Information Management Services.

[FR Doc. 2011-25546 Filed 10-7-11; 8:45 am]

BILLING CODE 6310-02-P